DEPARTMENT OF TRANSPORTATION

Federal Aviation Administration

14 CFR Part 39

[Docket No. FAA-2009-0198; Directorate Identifier 2008-NM-129-AD; Amendment 39-15941; AD 2009-13-02]

RIN 2120-AA64

Airworthiness Directives; Fokker Model F.28 Mark 0100 Airplanes

AGENCY: Federal Aviation Administration (FAA), Department of Transportation (DOT).

ACTION: Final rule.

SUMMARY: The FAA is superseding an existing airworthiness directive (AD), which applies to certain Fokker Model F.28 Mark 0100 airplanes. That AD currently requires revisions to the airplane flight manual (AFM) to include procedures to prohibit use of reverse engine thrust power settings between idle and emergency maximum and to prohibit stabilized engine operation in a certain engine speed range on the ground. This new AD continues to require revising the AFM to include certain procedures. This AD also requires removing the normal maximum (second) detent for the reverse-thrust control. In addition, this AD requires revising the AFM to prohibit use of reverse thrust in flight and to limit operation of Max Reverse thrust. This AD results from issuance of mandatory continuing airworthiness information (MCAI) originated by an aviation authority of another country to identify and correct an unsafe condition on an aviation product. We are issuing this AD to prevent inadvertent operation in the prohibited stabilized engine speed range on the ground, which could result in uncontained engine fan blade failure due to high cycle fatigue cracking.

DATES: This AD becomes effective August 3, 2009.

The Director of the Federal Register approved the incorporation by reference of a certain publication listed in the AD as of August 3, 2009.

ADDRESSES: For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The FAA issued a notice of proposed rulemaking (NPRM) to amend 14 CFR part 39 to include an AD that supersedes AD 98-06-07, amendment 39-10384 (63 FR 11985, March 12, 1998). The existing AD applies to certain Fokker Model F.28 Mark 0100 airplanes. That NPRM was published in the Federal Register on March 6, 2009 (74 FR 9774). That NPRM proposed to continue to require revising the AFM to include procedures prohibiting stabilized engine operation in a certain engine speed range on the ground. That NPRM also proposed to require removing the normal maximum (second) detent for the reverse-thrust control. In addition, that NPRM proposed to revise the AFM to prohibit use of reverse thrust in flight and to limit operation of Max Reverse thrust.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Cost per airplane | Number of U.S.-registered airplanes | Fleet cost
AFM revision (required by AD 98-06-07) | 1 | $80 | $80 | 5 | $400
Removal of second detent (new action) | 3 | 80 | 240 | 5 | 1,200
AFM revision (new action) | 1 | 80 | 80 | 5 | 400

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10384 (63 FR 11985, March 12, 1998) and by adding the following new airworthiness directive (AD):

2009-13-02 Fokker Services B.V.: Amendment 39-15941. Docket No. FAA-2009-0198; Directorate Identifier 2008-NM-129-AD.

Effective Date

(a) This AD becomes effective August 3, 2009.

Affected ADs

(b) This AD supersedes AD 98-06-07.

Applicability

(c) This AD applies to Fokker Model F.28 Mark 0100 airplanes, certificated in any category, equipped with Rolls-Royce (RR) TAY 650-15 engines.

Subject

(d) Air Transport Association (ATA) of America Code 76: Engine controls.

Unsafe Condition

(e) This AD results from issuance of mandatory continuing airworthiness information (MCAI) originated by an aviation authority of another country to identify and correct an unsafe condition on an aviation product. We are issuing this AD to prevent inadvertent operation in the prohibited stabilized engine speed range on the ground, which could result in uncontained engine fan blade failure due to high cycle fatigue cracking.

Compliance

(f) You are responsible for having the actions required by this AD performed within the compliance times specified, unless the actions have already been done.

Certain Requirement of AD 98-06-07

Airplane Flight Manual (AFM) Revision

(g) Within 72 hours after March 27, 1998 (the effective date of AD 98-06-07), revise the Limitations Section of the FAA-approved AFM to add the following. This may be accomplished by inserting a copy of this AD in the AFM.

“LIMITATIONS POWERPLANT and APU LIMITATIONS

OPERATING LIMITS

• To avoid high fan blade stresses, stabilized operation in the speed range between 60% and 75% Low Pressure Rotational Speed (N1) is not permitted during Ground Operations in Forward or Reverse Thrust, except that passing through this range while increasing or decreasing thrust is permitted.

THRUST REVERSER

Thrust reversers are intended for ground use only. Intentional use of reverse thrust in flight is prohibited. After reverse thrust has been initiated, a full stop landing must be made.

Maximum Reverse Thrust Lever Positions

Normal Operation:

—The idle detent position shall not be exceeded in normal operation.

—Momentarily exceeding the idle detent position, while selecting idle reverse, is acceptable.

Emergency Operation:

—In case of emergency, the emergency maximum reverse thrust may be used.

—If directional control problems occur, reduce to idle reverse or select forward idle.

—Stabilized operation with the reverse lever in an intermediate position between idle reverse and emergency maximum reverse is prohibited, except (where approved) during Power-Back operations.”

Note 1: Fokker Services Manual Change Notification—Operational Documentation (MCNO) No. F100-006, dated November 27, 1997, contains information that pertains to this subject. Rolls-Royce PLC Engine Operating Instruction Manual Reference F-TAY-3RR, revised by transmittal letter No. 13, dated October 15, 1997, also pertains to this subject.

New Actions Required by This AD

Removal of Normal Maximum Detent

(h) Within 12 months after the effective date of this AD, remove the normal maximum (second) detent for the reverse-thrust control, in accordance with the Accomplishment Instructions of Fokker Service Bulletin SBF100-76-014, Revision 2, dated December 12, 2007. Accomplishing the removal terminates the requirements of paragraph (g) of this AD.

(i) Actions done before the effective date of this AD in accordance with Fokker Service Bulletin SBF100-76-014, dated October 1, 2001; or Revision 1, dated June 1, 2002; are acceptable for compliance with the requirements of paragraph (h) of this AD.

AFM Revision

(j) Concurrently with the requirements of paragraph (h) of this AD, revise the Limitations Section of the Fokker F.28 Mark 0100 AFM to include the following (this may be accomplished by inserting a copy of this AD into the AFM):

“THRUST REVERSERS

Thrust reversers are intended for ground use only. Intentional use of reverse thrust in flight is prohibited.

The use of Max Reverse thrust is limited to operations on short runways or on runways with a reduced runway surface friction coefficient or in emergency conditions. Max Reverse thrust shall not be used at airspeeds below 60 knots except in emergency conditions.

Reverse thrust selections between Idle Reverse thrust and Max Reverse thrust are prohibited.”

Note 2: Fokker Manual Change Notification—Operational Documentation (MCNO) F100-032, Revision 1, dated September 21, 2007, contains information related to the AFM revision required by paragraph (j) of this AD.

Alternative Methods of Compliance (AMOCs)

(k) The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

Related Information

(l) European Aviation Safety Agency Airworthiness Directive 2008-0089, dated May 13, 2008, also addresses the subject of this AD.

Material Incorporated by Reference

(m) You must use Fokker Service Bulletin SBF100-76-014, Revision 2, dated December 12, 2007, as applicable, to do the actions required by this AD, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 16, 2009.
Dorr M. Anderson,
Acting Manager, Transport Airplane Directorate, Aircraft Certification Service.

[FR Doc. E9-14676 Filed 6-26-09; 8:45 am]

BILLING CODE 4910-13-P